DEPARTMENT OF TRANSPORTATION

Coast Guard

33 CFR Part 165

[CGD01-00-005]

RIN 2115-AA97

Safety Zone: Coast Guard Activities New York Annual Fireworks Displays

AGENCY: Coast Guard, DOT

ACTION: Final rule; correction.

SUMMARY: This document corrects a final rule published in the Federal Register of June 8, 2000, concerning regulations for annual fireworks displays located on Sandy Hook Bay, Rondout Creek, Hempstead Harbor, the Arthur Kill, and the Hudson River. That document contained an incorrect amendatory instruction.

DATES: The correction is effective June 23, 2000.

FOR FURTHER INFORMATION CONTACT: Lieutenant M. Day, Waterways Oversight Branch, Coast Guard Activities New York (718) 354-4012.

SUPPLEMENTARY INFORMATION:

Correction

In final rule FR Doc 00-14507, on page 36342, second column the amendatory instruction for item number 2 is incorrectly set out and a correction is needed.

PART 165—[CORRECTED]

Correction of Publication

Accordingly, in the publication on June 8, 2000, of the final rule [CGD01-00-005], which is the subject of FR Doc. 00-14507, make the following correction. On page 36342, second column, in amendatory instruction number 2, remove the word “revised” and add in its place the word “add”.

Dated: June 19, 2000.
Pamela M. Pelcovits,
Chief, Office of Regulations and Administrative Law, United States Coast Guard, DOT.

[FR Doc. 00-15954 Filed 6-22-00; 8:45 am]

BILLING CODE 4910-15-U